DEPARTMENT OF HOMELAND SECURITY

Federal Emergency Management Agency

[Docket ID FEMA-2020-0002; Internal Agency Docket No. FEMA-B-2025]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 21, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2025, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Yavapai County, Arizona and Incorporated Areas
Project: 18-09-0020S Preliminary Date: August 29, 2019
City of Prescott | Public Works Building, 433 North Virginia Street, Prescott, AZ 86303.
Town of Chino Valley | Public Works Development Services, 1982 Voss Drive, Chino Valley, AZ 86323.
Town of Dewey-Humboldt | Dewey-Humboldt Town Hall, 2735 South Highway 69, Humboldt, AZ 86329.
Town of Prescott Valley | Engineering Division, 7501 East Skoog Boulevard, Prescott Valley, AZ 86314.
Unincorporated Areas of Yavapai County | Yavapai County Flood Control District, 1120 Commerce Drive, Prescott, AZ 86305.
LaPorte County, Indiana and Incorporated Areas
Project: 13-05-4232S Preliminary Date: June 28, 2019
City of Michigan City | City Hall, Planning and Redevelopment Department, 100 East Michigan Boulevard, Michigan City, IN 46360.
Town of Long Beach | Town Hall, 2400 Oriole Trail, Long Beach, IN 46360.
Town of Michiana Shores | Town Hall, 601 El Portal Drive, Michiana Shores, IN 46360.
Town of Pottawattamie Park | Town Office, 100 Jack Pine Drive, Pottawattamie Park, IN 46360.
Town of Trail Creek | Town Hall, 211 Rainbow Trail, Trail Creek, IN 46360.
Unincorporated Areas of LaPorte County | County Government Complex, LaPorte County Plan Commission, 809 State Street, Suite 503A, LaPorte, IN 46350.
Sac County, Iowa and Incorporated Areas
Project: 17-07-0044S Preliminary Date: July 6, 2019
City of Auburn | City Hall, 209 Pine Street, Auburn, IA 51433.
City of Early | City Hall, 107 Main Street, Early, IA 50535.
City of Lake View | City Hall, 305 Main Street, Lake View, IA 51450.
City of Odebolt | City Hall, 205 West 2nd Street, Odebolt, IA 51458.
City of Sac City | City Hall, 302 East Main Street, Sac City, IA 50583.
City of Schaller | City Hall, 101 South Main Street, Schaller, IA 51053.
City of Wall Lake | City Hall, 108 Boyer Street, Wall Lake, IA 51466.
Unincorporated Areas of Sac County | Sac County Courthouse, 100 Northwest State Street, Sac City, IA 50583.

[FR Doc. 2020-08459 Filed 4-21-20; 8:45 am]

BILLING CODE 9110-12-P